DEPARTMENT OF THE INTERIOR

Bureau of Indian Affairs

[167 A2100DD/AAKC001030/A0A501010.999900]

Renewal of Agency Information Collection for Appointed Counsel in Involuntary Indian Child Custody Proceedings in State Courts

AGENCY: Bureau of Indian Affairs, Interior.

ACTION: Notice of request for comments.

SUMMARY: In compliance with the Paperwork Reduction Act of 1995, the Bureau of Indian Affairs (BIA has submitted to the Office of Management and Budget (OMB) a request for renewal of the collection of information for the collection of information for Appointed Counsel in Involuntary Indian Child Custody Proceedings in State Courts authorized by OMB Control Number 1076-0111. This information collection expires June 30, 2016.

DATES: Interested persons are invited to submit comments on or before June 30, 2016.

ADDRESSES: Please submit your comments to the Desk Officer for the Department of the Interior at the Office of Management and Budget, by facsimile to (202) 395-5806 or you may send an email to: OIRA_Submission@omb.eop.gov. Also please send a copy of your comments to Ms. Evangeline Campbell, 1849 C Street NW., Mail Stop 4513, Washington, DC 20240; fax: (202) 513-208-5113; email: Evangeline.Campbell@bia.gov.

FOR FURTHER INFORMATION CONTACT: Ms. Evangeline Campbell, (202) 513-7621, or Ms. Debra Burton, (202) 513-7610. You may review the information collection request online at http://www.reginfo.gov. Follow the instructions to review Department of the Interior collections under review by OMB.

SUPPLEMENTARY INFORMATION:

I. Abstract

The BIA is seeking renewal of the approval for the information collection conducted under 25 CFR 23.13, implementing the Indian Child Welfare Act (25 U.S.C. 1901 et seq.). The information collection allows BIA to receive written requests by State courts that appoint counsel for an indigent Indian parent or Indian custodian in an involuntary Indian child custody proceeding when appointment of counsel is not authorized by State law. The applicable BIA Regional Director uses this information to decide whether to certify that the client in the notice is eligible to have his counsel compensated by the BIA in accordance with the Indian Child Welfare Act.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0111.

Title: Payment for Appointed Counsel in Involuntary Indian Child Custody Proceedings in State Courts, 25 CFR 23.13.

Brief Description of Collection: This information is required in order for States to receive payment for counsel appointed to indigent Indian parents or custodians in involuntary child custody proceedings under 25 CFR 23.13. The information is collected to determine applicant eligibility for services.

Type of Review: Extension without change of currently approved collection.

Respondents: State courts.

Number of Respondents: Two per year.

Estimated Time per Response: Two hours for reporting and one hour for recordkeeping.

Frequency of Response: Once, on occasion.

Obligation to Respond: Response required to obtain a benefit.

Estimated Time Per Response: Three hours.

Estimated Total Annual Hour Burden: Six hours.

Estimated Total Non-Hour Annual Cost: $0.

Elizabeth K. Appel,
Director, Office of Regulatory Affairs and Collaborative Action—Indian Affairs.

[FR Doc. 2016-12680 Filed 5-27-16; 8:45 am]

BILLING CODE 4337-15-P